DEPARTMENT OF HOMELAND SECURITY

Coast Guard

33 CFR Part 117

[Docket No. USCG-2009-1021]

RIN 1625-AA09

Drawbridge Operation Regulation; New Haven Harbor, Quinnipiac and Mill Rivers, CT

AGENCY: Coast Guard, DHS.

ACTION: Notice of proposed rulemaking; Reopening comment period.

SUMMARY: The Coast Guard is reopening the comment period to solicit comments on its Notice of Proposed Rulemaking published January 13, 2010, regarding the Ferry Street Bridge, mile 0.7, across the Quinnipiac River, the Grand Avenue Bridge, mile 1.3, across the Quinnipiac River, and the Chapel Street Bridge, mile 0.4, across the Mill River, at New Haven, Connecticut. This notice of proposed rulemaking is expected to relieve the bridge owner from the burden of crewing the bridges during time periods when the bridges seldom receive requests to open.

DATES: Comments and related material must be received by January 15, 2013.

ADDRESSES: You may submit comments identified by docket number USCG-2009-1021 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rulemaking, call or email Ms Judy Leung-Yee; Bridge Administration Branch, First Coast Guard District; telephone 212-668-7165, email judy.k.leung-yee@uscg.mil. If you have questions on viewing or submitting material to the docket, call Renee V. Wright, Program Manager, Docket Operations, telephone 202-366-9826.

SUPPLEMENTARY INFORMATION:

A. Public Participation and Request for Comments

We encourage you to participate in this rulemaking by submitting comments and related materials. All comments received will be posted, without change to http://www.regulations.gov and will include any personal information you have provided.

1. Submitting Comments

If you submit a comment, please include the docket number for this rulemaking (USCG-2009-1021), indicate the specific section of this document or the notice of proposed rulemaking to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, go to http://www.regulations.gov, type “USCG-2009-1021” in the “Search” box and press the ENTER key, locate the entry for the notice of proposed rulemaking and click on the comment box next to it, and then following instructions for submitting a comment. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments or other documents in the docket, go to http://www.regulations.gov, in the “Search” box insert “USCG-2009-1021” and press the ENTER key. Locate the entry for the notice of proposed rulemaking and click the “Open Docket Folder” next to it. You may also visit the Docket Management Facility in Room W12-140 on the ground floor of the Department of Transportation West Building, 1200 New Jersey Avenue SE., Washington, DC, 20590, between 9 a.m. and 5 p.m., Monday through Friday, except Federal holidays. We have an agreement with the Department of Transportation to use the Docket Management Facility.

3. Privacy Act

Anyone can search the electronic form of comments received into any of our dockets by the name of the individual submitting the comment (or signing the comment, if submitted on behalf of an association, business, labor union, etc.). You may review a Privacy Act notice regarding our public dockets in the January 17, 2008, issue of the (73 FR 3316).

4. Public Meeting

We do not now plan to hold a public meeting. But you may submit a request for one to the docket using one of the four methods specified under ADDRESSES. Please explain why one would be beneficial. If we determine that one would aid this rulemaking, we will hold one at a time and place announced by a later notice in the Federal Register.

B. Basis and Purpose

In 2009, the City of New Haven requested a change to the drawbridge operation regulations governing the Ferry Street Bridge at mile 0.7, across Quinnipiac River, the Grand Avenue Bridge at mile 1.3, across the Quinnipiac River, and the Chapel Street Bridge, mile 0.4, across the Mill River, to reduce the burden of crewing these bridges during time periods when historically there have been few requests to open the bridges.

As a result, the Coast Guard authorized a temporary test deviation (74 FR 27249) on June 9, 2009, to test the proposed changes to the drawbridge operation regulations to help determine if a permanent change to the regulations would satisfactorily accomplish the bridge owner's goal and continue to meet the reasonable needs of navigation.

The test period was in effect through October 26, 2009. Satisfactory results were received from the test. There were no adverse impacts to navigation reported during the test period.

As a result of the successful test deviation we published a notice of proposed rulemaking (NPRM) entitled, “Drawbridge Operation Regulation; New Haven Harbor, Quinnipiac and Mill Rivers, CT,” in the Federal Register (75 FR 1738) on January 13, 2010. The comment period for the NPRM closed on February 12, 2010. We received no comments in response to our NPRM. No public meeting was requested, and none was held.

The promulgation of the final rule was delayed due to the construction of the I-95 Pearl Harbor Memorial Bridge across the Quinnipiac River, at New Haven, Connecticut, which required land traffic detours during the initial phase of the new bridge construction. The Coast Guard delayed publication of the final rule to help facilitate vehicular traffic detours.

Because several years have passed since we first solicited comments on this rulemaking we are reopening this NPRM to provide notice and opportunity for the public to comment on this rulemaking before making the proposed changes permanent.

The notice of proposed rulemaking, requested by the City of New Haven, pertains to the following bridges:

• The Ferry Street Bridge at mile 0.7, across the Quinnipiac River, which has a vertical clearance in the closed position of 25 feet at mean high water and 31 feet at mean low water.

• The Grand Avenue Bridge at mile 1.3, across the Quinnipiac River, which has a vertical clearance in the closed position of 9 feet at mean high water and 15 feet at mean low water.

• The Chapel Street Bridge at mile 0.4, across the Mill River, which has a vertical clearance of 7 feet at mean high water and 13 feet at mean low water. The regulation governing the Tomlinson Bridge at mile 0.0, across the Quinnipiac River, will not be changed by this rulemaking.

The existing drawbridge operation regulations listed at 33 CFR 117.213, authorizes a roving crew concept that requires the draw of the Ferry Street Bridge to open on signal from October 1 through April 30, between 9 p.m. and 5 a.m., unless the draw tender is at the Grand Ave or Chapel Street bridges, in which case a delay of up to one hour in opening is permitted.

The bridge owner would like to extend the above roving crew concept to be in effect year round.

The waterway users are seasonal recreational craft, commercial fishing and construction vessels.

As noted, because of the passage of time since the notice of proposed rulemaking was published, the Coast Guard is reopening the comment period until January 15, 2013.

This notice is issued under authority of 33 U.S.C. 499 and 5 U.S.C. 552.

Dated: December 10, 2012.
Daniel B. Abel,
Rear Admiral, Commander, First Coast Guard District.

[FR Doc. 2012-30985 Filed 12-24-12; 8:45 am]

BILLING CODE 9110-04-P